DEPARTMENT OF ENERGY

Federal Energy Regulatory Commission

Combined Notice of Filings #2

December 7, 2010.

Take notice that the Commission received the following electric rate filings:

Docket Numbers: ER11-2224-000.

Applicants: New York Independent System Operator, Inc.

Description: New York Independent System Operator, Inc. submits tariff filing per: Errata to NYISO Revised ICAP Demand Curve filing to be effective N/A.

Filed Date: 12/03/2010.

Accession Number: 20101203-5200.

Comment Date: 5 p.m. Eastern Time on Tuesday, December 21, 2010.

Docket Numbers: ER11-2307-000.

Applicants: PacifiCorp.

Description: PacifiCorp submits tariff filing per 35.13(a)(2)(iii): BPA Two-way Operation and Maintenance Agreement to be effective 11/1/2010.

Filed Date: 12/07/2010.

Accession Number: 20101207-5113.

Comment Date: 5 p.m. Eastern Time on Tuesday, December 28, 2010.

Docket Numbers: ER11-2308-000.

Applicants: Southwest Power Pool, Inc.

Description: Southwest Power Pool, Inc. submits Attachment AE of its Open Access Transmission Tariff, to be effective 2/6/2011.

Filed Date: 12/07/2010

Accession Number: 20101207-5114.

Comment Date: 5 p.m. Eastern Time on Tuesday, December 28, 2010.

Docket Numbers: ER11-2309-000.

Applicants: Southwest Power Pool, Inc.

Description: Southwest Power Pool, Inc. submits tariff filing per 35.13(a)(2)(iii): Formula Update—Midwest to be effective 9/1/2010.

Filed Date: 12/07/2010.

Accession Number: 20101207-5143.

Comment Date: 5 p.m. Eastern Time on Tuesday, December 28, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-31839 Filed 12-17-10; 8:45 am]

BILLING CODE 6717-01-P